DEPARTMENT OF HOMELAND SECURITY

Federal Emergency Management Agency

[Docket ID: FEMA-2023-0030; OMB No. 1660-0125]

Agency Information Collection Activities: Proposed Collection; Comment Request; FEMA Preparedness Grants: Homeland Security Grant Program (HSGP)

AGENCY: Federal Emergency Management Agency, Department of Homeland Security.

ACTION: 60-Day notice of revision and request for comments.

SUMMARY: The Federal Emergency Management Agency (FEMA), as part of its continuing effort to reduce paperwork and respondent burden, invites the general public to take this opportunity to comment on a revision of a currently approved information collection. In accordance with the Paperwork Reduction Act of 1995, this notice seeks comments concerning the Homeland Security Grant Program (HSGP), which includes the State Homeland Security Program (SHSP), the Urban Area Security Initiative (UASI), and Operation Stonegarden (OPSG). This revision removes the OPSG Daily Activity Report (FEMA Form FF-207-FY-21-113 (formerly 089-0-27)) from the collection.

DATES: Comments must be submitted on or before January 16, 2024.

ADDRESSES: To avoid duplicate submissions to the docket, please submit comments at www.regulations.gov under Docket ID FEMA-2023-0030. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Alexander Mrazik Jr., Branch Chief, FEMA's Grant Programs Directorate, Grant Operations Division, Preparedness Grants Division, Homeland Security Programs Branch, at (202) 786-9732 or Alexander.MrazikJr@fema.dhs.gov. You may contact the Information Management Division for copies of the proposed collection of information at email address: FEMA-Information-Collections-Management@fema.dhs.gov.

SUPPLEMENTARY INFORMATION: The Federal Emergency Management Agency's (FEMA's) Homeland Security Grant Program (HSGP) supports state and local efforts to prevent terrorism and other catastrophic events and to prepare the Nation for the threats and hazards that pose the greatest risk to the security of the United States. The HSGP provides funding to implement investments that build, sustain, and deliver the 32 core capabilities essential to achieving the National Preparedness Goal of a secure and resilient Nation. The building, sustainment, and delivery of these core capabilities are not exclusive to any single level of government, organization, or community, but rather, require the combined effort of the whole community. The HSGP supports core capabilities across the five mission areas of Prevention, Protection, Mitigation, Response, and Recovery based on allowable costs. HSGP is comprised of three grant programs: State Homeland Security Program (SHSP), Urban Area Security Initiative (UASI), and Operation Stonegarden (OPSG). Together, these grant programs fund a range of activities, including planning, organization, equipment purchase, training, exercises, and management and administration across all core capabilities and mission areas. The authorizing authority of the HSGP is section 2002 of the Homeland Security Act of 2002 (Pub. L. 107-296) (See 6 U.S.C. 603-609, as amended).

This revision of the information collection removes the OPSG Daily Activity Report, FEMA Form FF-207-FY-21-113 (formerly 089-0-27) that was created at the behest of CBP to fulfill CBP's requirements under OPSG and is only used to collection information from the public by CBP. FEMA has previously included this instrument under this collection as a service to CBP, but including an instrument used by CBP under a collection granting FEMA the authority to collect information does not provide the proper service to CBP, FEMA or the public.

Collection of Information

Title: FEMA Preparedness Grants: Homeland Security Grant Program (HSGP).

Type of Information Collection: Revision of a currently approved information collection.

OMB Number: 1660-0125.

FEMA Forms: FEMA Form FF-207-FY-21-110 (formerly 089-1), Investment Justification for Homeland Security Grant Program (HSGP), State Homeland Security Program (SHSP) and Urban Area Security Initiative (UASI); FEMA Form FF-207-FY-21-111 (formerly 089-16), Operation Stonegarden (OPSG) Operations Order and Budget Template; FEMA Form FF-207-FY-21-112 (formerly 089-20), Operation Stonegarden (OPSG) Inventory of Operation Orders; FEMA Instruction FI-207-FY-24-100, Urban Area Working Group (UAWG) Overview/Structure (including Point-of-Contact (POC)); FEMA Instruction FI-207-FY-24-101, Operational Overtime Documentation; FEMA Instruction FI-207-FY-24-102, Multiyear Training and Exercise Plan; FEMA Instruction FI-207-FY-24-103, Urban Area Security Initiative (UASI) Governance Charter; FEMA Instruction FI-207-FY-24-104, Senior Advisory Committee (SAC) Charter; FEMA Instruction FI-207-FY-24-105, Urban Area Working Group (UAWG) Allocation Methodology; FEMA Instruction FI-207-FY-24-106, State Homeland Security Program (SHSP) and Urban Area Security Initiative (UASI) Pass-Through Requirements; FEMA Instruction FI-207-FY-24-107, Critical Emergency Supplies; and FEMA Instruction FI-207-FY-24-108, SAFECOM Compliance Letter.

Abstract: The Homeland Security Grant Program (HSGP) is an important tool among a comprehensive set of measures to help strengthen the Nation against risks associated with potential terrorist attacks. FEMA uses the information to evaluate applicants' familiarity with the national preparedness architecture and identify how elements of this architecture have been incorporated into planning, operations, and investments at the regional, state and local levels. The HSGP is a primary funding mechanism for building and sustaining national preparedness capabilities. The HSGP is comprised of three separate grant programs: the State Homeland Security Program (SHSP), the Urban Area Security Initiative (UASI), and Operation Stonegarden (OPSG). Together, these grants fund a range of preparedness activities, including planning, organization, equipment purchase, training, exercises, and management and administration costs.

Affected Public: State, local, or Tribal governments.

Estimated Number of Respondents: 709.

Estimated Number of Responses: 827.

Estimated Total Annual Burden Hours: 319,488.

Estimated Total Annual Respondent Cost: $26,821,018.

Estimated Respondents' Operation and Maintenance Costs: $0.

Estimated Respondents' Capital and Start-Up Costs: $0.

Estimated Total Annual Cost to the Federal Government: $1,546,239.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-25419 Filed 11-16-23; 8:45 am]

BILLING CODE 9111-78-P